DEPARTMENT OF COMMERCE

International Trade Administration

[A-351-605]

Frozen Concentrated Orange Juice from Brazil; Rescission of Antidumping Duty Administrative Review

AGENCY: Import Administration, International Trade Administration, Department of Commerce.

ACTION: Notice of Rescission of the Antidumping Duty Administrative Review for the Period May 1, 2001, through April 30, 2002.

EFFECTIVE DATE: August 15, 2002.

FOR FURTHER INFORMATION CONTACT: Irina Itkin or Elizabeth Eastwood, Office of AD/CVD Enforcement Group I, Import Administration, International Trade Administration, U.S. Department of Commerce, 14th Street and Constitution Avenue, NW, Washington, DC 20230, telephone: (202) 482-0656 or (202) 482-3874, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department)'s regulations are to 19 CFR part 351 (2002).

Background

On May 6, 2002, the Department published in the Federal Register (67 FR 30356) a notice of opportunity to request an administrative review of the antidumping duty order regarding frozen concentrated orange juice from Brazil for the period May 1, 2001, through April 30, 2002.

In accordance with 19 CFR 351.213(b)(1), on May 31, 2002, the domestic interested parties of Florida Citrus Mutual, Citrus Belle, Citrus World, Inc., Orange-Co of Florida, Inc., Peace River Citrus Products, Inc., and Southern Gardens Citrus Processors Corp. requested a review of the antidumping duty order on frozen concentrated orange juice from Brazil with respect to the following producers/exporters: Citrovita Agro Industrial Ltda. and its affiliated parties Cambuhy MC Industrial Ltda. and Cambuhy Citrus Comercial e Exportadora (collectively “Citrovita”), Branco Peres Citrus S.A. (Branco Peres), CTM Citrus S.A. (CTM), and Sucorrico S.A. (Sucorrico).

In June 2002, the Department initiated an administrative review for Citrovita, Branco Peres, CTM, and Sucorrico (67 FR 42753 (June 25, 2002)) and issued questionnaires to them.

In July and August 2002, Branco Peres, CTM, Citrovita, and Sucorrico notified the Department that neither they nor any of their affiliates had any sales or exports of subject merchandise during the period of review (POR). The Department has been able to confirm with the Customs Service that Branco Peres, CTM, Citrovita, and Sucorrico had no shipments of subject merchandise during the POR. See the August 5, 2002, memorandum from Elizabeth Eastwood to the file entitled “Intent to Rescind the Antidumping Duty Administrative Review on Frozen Concentrated Orange Juice from Brazil.”

Rescission of Review

As Branco Peres, CTM, Citrovita, and Sucorrico had no sales or exports of subject merchandise for this POR, in accordance with 19 CFR 351.213(d)(3) and consistent with our practice, we are rescinding this review of the antidumping duty order on frozen concentrated orange juice from Brazil for the period of May 1, 2001, through April 30, 2002. This notice is published in accordance with section 751 of the Act and 19 CFR 351.213(d)(4).

Dated: August 8, 2002.
Richard W. Moreland,
Deputy Assistant Secretary Import Administration.

[FR Doc. 02-20772 Filed 8-14-02; 8:45 am]

BILLING CODE 3510-DS-S